SECURITIES AND EXCHANGE COMMISSION

Sunshine Act Meeting

Notice is hereby given, pursuant to the provisions of the Government in the Sunshine Act, Public Law 94-409, that the Securities and Exchange Commission's Office of Compliance Inspections and Examinations (“OCIE”) will host a public conference, characterized as a “Compliance Outreach Program for Broker-Dealers,” on Thursday, July 27, 2017, in the Auditorium, Room L-002 at the Commission's headquarters, 100 F Street NE., Washington, DC 20549. The conference will begin at 10:30 a.m. (ET). Seating will be on a first-come, first-served basis. Doors will open at 9:00 a.m. Visitors will be subject to security checks. The conference will be webcast on the Commission's Web site at www.sec.gov.

On May 3, 2017, the Commission issued notice of the conference indicating that the conference is open to the public. This Sunshine Act notice is being issued because a quorum of the Commission may attend.

The agenda for the conference includes: Opening remarks by Chairman Jay Clayton; a panel discussion with insights from Michael Piwowar, Commissioner, Securities and Exchange Commission, Robert Cook, President and CEO of FINRA (Financial Industry Regulatory Authority), and moderated by Peter Driscoll, Acting Director, OCIE; a panel discussion addressing certain broker-dealer hot topics, including anti-money laundering, conflicts of interest, recidivist and high risk brokers and dual registrants.

Other panels include a discussion of issues relating to senior investors and those investing for retirement and a discussion addressing current cybersecurity threats impacting broker-dealers and the securities markets, including mitigation approaches.

For further information, please contact Brent J. Fields from the Office of the Secretary at (202) 551-5400.

Dated: July 20, 2017.
Brent J. Fields,
Secretary.

[FR Doc. 2017-15627 Filed 7-21-17; 11:15 am]

BILLING CODE 8011-01-P